INTERNATIONAL TRADE COMMISSION

[Investigation No. Korea FTA-103-026]

Effect of Adding References to HS 6104.32 To Correct the U.S.-Korea FTA Product-Specific Rules of Origin

AGENCY: United States International Trade Commission.

ACTION: Institution of investigation and notice of opportunity to provide written comments.

SUMMARY: Following receipt of a request on March 22, 2012, from the U.S. Trade Representative (USTR) under authority delegated by the President and pursuant to section 104 of the United States-Korea Free Trade Agreement Implementation Act (19 U.S.C. 3805 note), the Commission instituted investigation No. Korea FTA-103-026, Effect of Adding References to HS 6104.32 To Correct the U.S.-Korea FTA Product-Specific Rules of Origin.

DATES: April 18, 2012: Deadline for filing written submissions. On or before May 22, 2012: Transmittal of report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: Co-project Leaders Heidi Colby-Oizumi (202-205-3391 or heidi.colby@usitc.gov) or Kimberlie Freund (202-708-5402 or kimberlie.freund@usitc.gov) for information specific to this investigation. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: In his request letter (dated March 22, 2012), the USTR asked that the Commission provide advice on the probable effect on U.S. trade under the United States-Korea Free Trade Agreement (FTA) and total U.S. trade of adding references to HS 6104.32 to correct the relevant product-specific rules of origin. He stated that the United States and Korea have confirmed that a reference to HS 6104.32 was inadvertently omitted through a clerical error from the relevant product-specific rules of origin in Annex 4-A (specific rules of origin for textile or apparel goods) of both the English and Korean language versions of the final text of the FTA. He said that HS 6104.32 was the subject of negotiations and is included in the corresponding product-specific rules of origin in other U.S. FTAs. He further stated that, in order to correct this clerical error, on March 5, 2012, the United States and Korea amended the relevant product-specific rules of origin in Annex 4-A to include references to HS 6104.32 and that this amendment will go into effect after the United States and Korea exchange written notification that they have completed their respective applicable legal requirements and procedures. The USTR also noted that, pursuant to section 202 (o)(2)(B)(ii) of the United-States-Korea Free Trade Agreement Implementation Act (Implementation Act), before the 1-year period beginning on the date on which the FTA enters into force, the President is authorized, subject to the consultation and layover provisions of the Implementation Act, to proclaim modifications to the HTS to correct any typographical, clerical, or non-substantive technical error regarding the provisions of chapters 50-63 (as included in Annex 4-A of the FTA).

Written Submissions: No public hearing is planned. However, interested parties are invited to file written submissions and other information concerning the matters to be addressed in this investigation. All written submissions should be addressed to the Secretary. To be assured of consideration by the Commission, written submissions relating to the Commission's advice should be submitted at the earliest possible date, and should be received not later than 5:15 p.m., April 18, 2012. All written submissions must conform to the provisions of section 201.8 of the Commission's Rules of Practice and Procedure (19 CFR 201.8). Section 201.8 and the Commission's Handbook on Filing Procedures require that interested parties file documents electronically on or before the filing deadline and submit eight (8) true paper copies by 12 noon eastern time on the next business day. In the event that confidential treatment of a document is requested, interested parties must file, at the same time as the eight paper copies, at least four (4) additional true paper copies in which the confidential information must be deleted (see the following paragraph for further information regarding confidential business information). Persons with questions regarding electronic filing should contact the Secretary (202-205-2000).

Any submissions that contain confidential business information must also conform to the requirements of section 201.6 of the Commission's Rules of Practice and Procedure (19 CFR 201.6). Section 201.6 of the rules requires that the cover of the document and the individual pages be clearly marked as to whether they are the “confidential” or “non-confidential” version, and that the confidential business information is clearly identified by means of brackets. All written submissions, except for confidential business information, will be made available for inspection by interested parties.

The Commission may include some or all of the confidential business information submitted in the course of this investigation in the report it sends to the USTR and the President.

Issued: March 26, 2012.
By order of the Commission.
James R. Holbein,
Secretary to the Commission.

[FR Doc. 2012-7566 Filed 3-28-12; 8:45 am]

BILLING CODE 7020-02-P